DEPARTMENT OF THE INTERIOR

National Indian Gaming Commission

Notice of Tribal Consultations

AGENCY: National Indian Gaming Commission.

ACTION: Notice of tribal consultations.

SUMMARY: The purpose of this document is to publish the schedule for government-to-government consultation on the National Environmental Policy Act (NEPA), and the NIGC's efforts to remain current with gaming technology.

FOR FURTHER INFORMATION CONTACT: Christinia Thomas, Deputy Chief of Staff at (202) 632-7003

SUPPLEMENTARY INFORMATION: Congress established the National Indian Gaming Commission (NIGC or Commission) under the Indian Gaming Regulatory Act (IGRA) to regulate gaming on Indian lands. In accordance with the NIGC's tribal consultation policy, the Commission will engage in consultation with tribal governments on the following topics.

The National Environmental Policy Act

In December of 2009, the NIGC published a draft NEPA manual in the Federal Register and requested comments. Some of the comments received questioned whether the approval of a management contract actually triggered a NEPA review. Further, the comments suggested that the NIGC should either conclude that NEPA does not apply or it should adopt a categorical exclusion for the approval of management contracts. Therefore the Commission is seeking comments on what level of environmental review, if any, is required before the Chairman can or should approve a management contract.

Technology

The Commission realizes that constant technologic advances are not only changing the face of Indian gaming, but also necessitate that the NIGC continue to adapt to meet the regulatory needs of the industry. As tribal gaming evolves, the NIGC wants to continue to play a relevant role in tribal gaming and ensure that it can meet the demands of new regulatory issues in a timely manner.

Consultation generally

Executive Order 13175 entitled, “Consultation and Coordination with Indian Tribal Governments” provides for the NIGC to engage in meaningful consultation with Tribal governments prior to taking an action that has tribal implications. Through this consultation, the NIGC hopes to identify areas that need to be addressed to ensure that the Agency meets new regulatory challenges as technology develops. The Commission recognizes the necessity of engaging experts from the industry as it considers its options. To ensure that any decisions made benefit and protect the entire gaming industry, all points of view must be considered and decisions informed by the industry the NIGC regulates.

In compliance with Executive Order 13175, the NIGC will hold four consultations at the locations listed below. Every attempt was made to hold a consultation in each region and to coordinate with other established meetings when establishing this consultation schedule. Please RSVP to consultation.rsvp@nigc.gov.

Consultation Schedule

The Commission will be conducting government-to-government consultations with Tribes on this proposed rule at the following dates and locations:

• March 20, 2014 in Las Vegas, NV

• April 2, 2014 in Prior Lake, MN

• May 8, 2014 in Biloxi, MS

• May 14, 2014 in San Diego, CA

One or more of the consultations will include an option for Tribes to participate by telephone. For additional information on consultation locations and times, please refer to the consultation page on the NIGC Web site at www.nigc.gov.

Jonodev Chaudhuri,
Acting Chairman.
Daniel J. Little,
Associate Commissioner.

[FR Doc. 2014-02862 Filed 2-10-14; 8:45 am]

BILLING CODE 7565-01-P